NUCLEAR WASTE TECHNICAL REVIEW BOARD

Notice of Meeting

Board Meeting: September 10, 2002—Las Vegas, Nevada: The Nuclear Waste Technical Review Board will hold a meeting to discuss DOE technical and scientific activities related to the proposed development of a repository for spent nuclear fuel and high-level radioactive waste disposal at Yucca Mountain, Nevada. Issues to be discussed include performance assessment and repository system barrier analyses.

Pursuant to its authority under section 5051 of Public Law 100-203, Nuclear Waste Policy Amendments Act of 1987, on Tuesday, September 10, 2002, the Nuclear Waste Technical Review Board (Board) will meet in Las Vegas, Nevada, to discuss U.S. Department of Energy (DOE) technical activities related to a proposed repository for spent nuclear fuel and high-level radioactive waste at Yucca Mountain, Nevada. At the meeting, the DOE will present updates on important aspects of its technical and scientific program and will participate along with other interested parties in a round-table discussion of performance assessment and repository system barrier analysis. The meeting is open to the public, and opportunities for public comment will be provided. The Board is charged by Congress with reviewing the technical and scientific validity of DOE activities related to managing spent nuclear fuel and high-level radioactive waste.

The Board meeting will be held at the Alexis Park Hotel, 375 Harmon Avenue, Las Vegas, Nevada 89109. The telephone numbers are (702) 796-3300 or (800) 453-8000; the fax number is (702) 796-3354. The meeting will start at 8 a.m.

A greeting by the Board's incoming chairman, Dr. Michael Corradini, will open the morning session followed by remarks by outgoing chairman, Dr. Jared Cohon. Four additional new Board members will be introduced, and four members departing the Board will be recognized. The greeting and introductions will be followed by a general overview of the DOE program and a briefing on the Yucca Mountain project's plans. The DOE will then provide an update on its science and engineering activities followed by a report on the proposed science and technology program. The final presentation before lunch will be given by a representative of Inyo County, California, who will report on the County's regional ground water monitoring program. Immediately following the lunch break, the chair of the DOE's Igneous Consequences Peer Review Panel will present an interim report from the Panel. This presentation will be followed by updates on corrosion testing and repository design. The final session of the afternoon will focus on performance assessment and barrier analysis, during which representatives of the DOE and the Electric Power Research Institute (EPRI) will make presentations. A round-table discussion of these topics will follow the presentations. Round-table participants will include representatives from the State of Nevada, the DOE, the EPRI, the Nuclear Regulatory Commission, the Advisory Committee on Nuclear Waste, and others. Round-table participants will discuss underlying causes for differences in TSPA estimates, the significance of those differences, and issues related to different repository-system barrier analyses.

A public comment period has been scheduled for 5:30-6:00 p.m. However, if members of the public are unable to comment at that time, time will be provided on as-needed basis before the lunch break. Those wanting to speak during the public comment period are encouraged to sign the “Public Comment Register” at the check-in table. A time limit may have to be set on individual remarks, but written comments of any length may be submitted for the record.

A detailed agenda will be available approximately one week before the meeting. Copies of the agenda can be requested by telephone or obtained from the Board's Web site at www.nwtrb.gov. Beginning October 10, 2002, transcripts of the meeting will be available on the Board's Web site, via e-mail, on computer disk, and on a library-loan basis in paper format from Davonya Barnes of the Board staff.

A block of rooms has been reserved at the Alexis Park Hotel. To obtain the meeting rate, reservations must be made by August 21, 2002. When making a reservation, please state that you are attending the Nuclear Waste Technical Review Board meeting. For more information, contact the NWTRB; Karyn Severson, External Affairs; 2300 Clarendon Boulevard, Suite 1300; Arlington, VA 22201-3367; (tel) 703-235-4473; (fax) 703-235-4495; (e-mail) info@nwtrb.gov.

The Nuclear Waste Technical Review Board was created by Congress in the Nuclear Waste Policy Amendments Act of 1987. The Board's purpose is to evaluate the technical and scientific validity of activities undertaken by the Secretary of Energy related to the disposal of the nation's spent nuclear fuel and high-level radioactive waste. In the same legislation, Congress directed the DOE to characterize a site at Yucca Mountain, Nevada, to determine its suitability as the location of a potential repository for the permanent disposal of spent nuclear fuel and high-level radioactive waste.

Dated: July 26, 2002.
William D. Barnard,
Executive Director, Nuclear Waste Technical Review Board.

[FR Doc. 02-19146 Filed 7-29-02; 8:45 am]

BILLING CODE 6820-AM-M